DEPARTMENT OF THE INTERIOR

Bureau of Land Management

[LLID9310000.L10200000.EE0000. LXSSD0010000]

Notice of Availability of the Final Environmental Impact Statement for the Jump Creek, Succor Creek, and Cow Creek Watersheds Grazing Permit Renewal, Owyhee County, ID

AGENCY: Bureau of Land Management, Interior.

ACTION: Notice of availability.

SUMMARY: In accordance with the National Environmental Policy Act of 1969, as amended, and the Federal Land Policy and Management Act of 1976 (FLPMA), as amended, the Bureau of Land Management (BLM) has prepared a Final Environmental Impact Statement (EIS) for the Owyhee Field Office Jump Creek, Succor Creek and Cow Creek Watersheds grazing permit renewal, and by this notice is announcing its availability.

DATES: The BLM will not issue a final decision on the proposal for a minimum of 30 days after the date that the Environmental Protection Agency publishes this notice in the Federal Register.

ADDRESSES: Copies of the Jump Creek, Succor Creek and Cow Creek Watersheds Grazing Permit Renewal Final EIS are available for public inspection at Owyhee Field Office, 20 First Avenue West, Marsing, ID 83639; the BLM Boise District Office, 3948 Development Ave., Boise ID 83705; the BLM Idaho State Office, 1387 S. Vinnell Way, Boise ID 83709. Interested persons may also review the Final EIS online at http://www.blm.gov/id/st/en/prog/nepa_register/owyhee_grazing_group/grazing_permit_renewal0.html.

FOR FURTHER INFORMATION CONTACT: Jake Vialpando, Project Manager; telephone 208-373-3814; address 1387 S. Vinnell Way, Boise ID 83709; email jvialpando@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The area covered by the permit renewal requests is located in Owyhee County, Idaho, and encompasses approximately 120,000 acres of public land. In addition to livestock grazing, a variety of other multiple uses exist within this area, including year-long recreation activities, particularly hiking, boating, fishing, hunting, and off-road vehicle use; wild horse management; potential wind energy development and electrical transmission line development. The Owyhee Field Office will continue to consult with the Shoshone-Paiute Tribes and other parties, as applicable, on this action during regular consultation proceedings and briefings. Federal, State, and local agencies, along with other stakeholders who may be interested or affected by the BLM's decision on this project were invited to comment as well.

The purpose of the action in the Final EIS is to provide for livestock grazing opportunities on public lands using existing infrastructure where such grazing is consistent with meeting management objectives, including the 1997 Idaho Standards for Rangeland Health and Guidelines for Livestock Grazing Management (Idaho S&Gs).

The need is established by the Taylor Grazing Act (TGA), FLPMA, and the 1999 Owyhee Resource Management Plan (ORMP), which require the BLM to respond to new applications or renewals for permits to graze livestock on public land. A detailed analysis of actions and alternative actions identified in the applications for grazing permit renewals is needed because:

• The BLM-Idaho adopted the Idaho S&Gs in 1997. Rangelands should be meeting or making significant progress toward meeting the standards and must provide for proper nutrient cycling, hydrologic cycling, and energy flow. Guidelines direct the selection of grazing management practices and, where appropriate, livestock facilities to promote significant progress toward, or the attainment and maintenance of, the standards.

• The ORMP identifies resource management objectives and management actions that guide the management of a broad spectrum of land uses and allocations for public lands in the Owyhee Field Office. The ORMP allocated public lands within the 25 allotments available for domestic livestock grazing. Where consistent with the goals and objectives of the ORMP and Idaho S&Gs, allocation of forage for livestock use and the issuance of grazing permits to qualified applicants are provided for by the TGA and FLPMA.

Issues were identified by BLM personnel, Federal, State, and local agencies, and other stakeholders during scoping. Some of these key issues include the effects of livestock grazing on rangelands, wild horse herd management areas, wildlife habitats (including Greater Sage-Grouse (GRSG) habitats), as well as the potential for disease transmission between domestic and bighorn sheep. Livestock management modifications are required where current livestock grazing management is determined by the authorized officer to be a significant causal factor for not meeting or not making significant progress toward meeting the Idaho Standards for Rangeland Health, and not achieving ORMP objectives. Evidence suggests that contact between bighorn sheep and domestic sheep can result in the transmittal of the disease, cause mortality to individual bighorn sheep, and affect herd health.

Other key issues identified and analyzed in the Final EIS involve the impact of livestock grazing on riparian area conditions and aquatic habitat causing the alteration of the health and composition of riparian vegetation communities, especially fish and amphibian habitat conditions; GRSG habitat conditions and the maintenance and enhancement of GRSG populations in accordance with BLM policy. Additionally, livestock grazing that may result in the reduction or removal of native vegetation communities that protect watershed soil and hydrologic function are analyzed in the Final EIS. Also included is an analysis of the potential effects of livestock grazing and trailing on special status plant species and their sustainability, as well as on the spread of noxious and invasive weeds. The BLM analyzed the potential effects of six alternative grazing systems. Alternative 1 is the No Action alternative, which analyzes the consequences of allowing current grazing management actions to continue. Alternative 2 reflects the applications proposed by the permittees currently authorized to graze in these allotments. This alternative is described as the Proposed Action and is, in this case, one that was developed by non-BLM parties. Alternative 3 analyzes the incorporation of a deferred grazing schedule where postponement or delay of grazing is used to achieve management objectives. Alternative 4 incorporates a grazing schedule that prescribes seasons-of-use changes including rest and deferment to protect and enhance high-value resources during certain times of the year. Both alternatives 3 and 4 may include animal unit month (AUM) reductions at varying levels. Alternative 5 addresses the effects specific to a change in livestock classification from sheep to cattle on a single allotment. Alternative 6 analyzes the effects of authorizing no grazing in the allotments for a period of 10 years. The Council on Environmental Quality (CEQ) directs the BLM to “identify the agency's preferred alternative or alternatives, if one or more exists, in the draft statement and identify such alternative in the final statement unless another law prohibits the expression of such a preference (40 CFR 1502.14 (e)).” The BLM did not identify a preferred alternative during the Draft EIS public comment period but has identified a preferred alternative in the Final EIS, as required in the CEQ regulations and in BLM policy. The preferred alternative is an allotment-specific composite of the different action alternatives, the effects of which are analyzed in the Final EIS. The preferred alternative includes a reconfiguration of two allotments into one, as requested by the permittees. Alternative 2 is identified for 6 of the allotments, Alternative 4 for 7 allotments, and Alternative 3 for the remaining 11 allotments in the group, including for the newly combined Wild Rat allotment.

Comments on the Draft EIS received from the public and internal BLM review were considered and incorporated, as appropriate, into the Final EIS. Public comments resulted in the addition of clarifying text but did not significantly change proposed decisions.

Authority: 40 CFR 1506.6, 40 CFR 1506.10.

Loretta V. Chandler,
BLM Owyhee Field Manager.

[FR Doc. 2013-25351 Filed 10-24-13; 8:45 am]

BILLING CODE 4310-GG-P